DEPARTMENT OF THE INTERIOR

Bureau of Indian Affairs

Smith River Rancheria Liquor Control Ordinance

AGENCY: Bureau of Indian Affairs, Interior.

ACTION: Notice.

SUMMARY: This Notice publishes the Smith River Rancheria Liquor Control Ordinance. The Ordinance regulates the control of, the possession of, and the sale of liquor on the Smith River Rancheria trust lands, and is in conformity with the laws of the State of California, where applicable and necessary. Although the Ordinance was adopted on January 19, 2000, it does not become effective until published in the Federal Register because the failure to comply with the Ordinance may result in criminal charges.

DATES: This Ordinance is effective as of August 29, 2000.

FOR FURTHER INFORMATION CONTACT: Kaye Armstrong, Branch of Judicial Services, Division of Tribal Government Services, 1849 C Street NW, MS-4631-MIB, Washington, DC 20240; telephone (202) 208-4400.

SUPPLEMENTARY INFORMATION: Pursuant to the Act of August 15, 1953, Public Law 277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Smith River Rancheria Liquor Ordinance, Resolution No. 20-03, was duly adopted by the Smith River Rancheria Tribal Council on January 19, 2000. The Smith River Rancheria, in furtherance of its economic and social goals, has taken positive steps to regulate retail sales of alcohol and use revenues to combat alcohol abuse and its debilitating effects among individuals and family members within the Smith River Rancheria.

This notice is being published in accordance with the authority delegated by the Secretary of the Interior to the Assistant Secretary—Indian Affairs by 209 Departmental Manual 8.

I certify that by Resolution No. 20-03, the Smith River Rancheria Liquor Control Ordinance, was duly adopted by the Smith River Rancheria Tribal Council on January 19, 2000.

Dated: August 21, 2000.
Kevin Gover,
Assistant Secretary—Indian Affairs.

The Smith River Rancheria Liquor Control Ordinance, Resolution No.20-03, reads as follows:

Liquor Control Ordinance

Article 1. Name. This Ordinance shall be known as the Smith River Rancheria Liquor Control Ordinance.

Article 2. Authority. This Ordinance is enacted pursuant to the Act of August 15, 1953, Publ. L. 83-277,67 Stat.588,18U.S.C.1161, and Article IV of the Constitution and Bylaws of the Rancheria.

Article 3. Purpose. The Purpose of the Ordinance is to regulate and control the possession and sale of liquor on the Rancheria, and to permit alcohol sales by tribally owned and operated enterprises, and at tribally approved special events, for the purpose of the economic development of the Rancheria. The enactment of a tribal ordinance governing liquor possession and sales on the Rancheria increases the ability of tribal government to control Rancheria liquor distribution and possession, and will provide an important source of revenue for the continued operation and strengthening of the tribal government the economic viability of Tribal enterprises, and the delivery of tribal government services. This Liquor Control Ordinance is in conformity with the laws of the State of California as required by 18 U.S.C. Sec. 1161, and with all applicable Federal laws.

Article 4. Effective Date. This Ordinance shall be effective as the date of its publication in the Federal Register.

Article 5. Possession of Alcohol. The introduction or possession of alcoholic beverages shall be lawful within the exterior boundaries of the Rancheria; provided that such introduction or possession is in conformity with the laws of the State of California.

Article 6. Sales of Alcohol.

(A) The sale of alcoholic beverages by business enterprises owned by and subject to the control of the Rancheria shall be lawful within the exterior boundaries of the Rancheria; provided that such sales are in conformity with the laws of the State of California.

(B) The sale of alcoholic beverages by the drink at special events authorized by the Rancheria shall be lawful within the exterior boundaries of the Smith River Rancheria; provided that such sales are in conformity with the laws of the State of California and with prior approval by Resolution of the Council.

Article 7. Age Limits. The drinking age within the Rancheria shall be the same as that of the State of California, which is currently 21 years. No person under the age of 21 years shall purchase, possess, or consume any alcoholic beverage. At such time, if any, as California Business and Professional Code Sec. 25658, which sets the drinking age for the State of California, is repealed or amended to raise or lower the drinking age within California, this Article shall automatically become null and void and the Council shall be empowered to amend this Article to match the age limit imposed by state law, such amendment to become effective upon publication in the Federal Register by the Secretary of the Interior.

Article 8. Civil Penalties. The Rancheria, through the Council and duly authorized personnel, shall have the authority to enforce this Ordinance by confiscating any liquor sold, possessed or introduced in violation hereof. The Council shall be empowered to sell such confiscated liquor for the benefit of the Rancheria, and to develop and approve such regulations as may become necessary for enforcement of this Ordinance.

Article 9. Prior Inconsistent Enactments. Any prior tribal laws resolutions or ordinances which are inconsistent with this Ordinance are hereby repealed to the extent they are inconsistent with this Ordinance.

Article 10. Sovereign Immunity. Nothing contained in this Ordinance is intended to, nor does in any way, limit, alter, restrict, or waive the sovereign immunity of the Rancheria or any of its agencies from unconsented suit or action of any kind.

Article 11. Severability. If any provision of this Ordinance is found by an agency or court of competent jurisdiction to be unenforceable, the remaining provisions shall be unaffected thereby.

Article 12. Amendment. This Ordinance may be amended by majority vote of the Council at a duly noticed Council meeting, such amendment to become effective upon publication in the Federal Register by the Secretary of the Interior.

[FR Doc. 00-22065 Filed 8-28-00; 8:45 am]

BILLING CODE 4310-02-P